DEPARTMENT OF HOUSING AND URBAN DEVELOPMENT

[Docket No. FR-6555-N-01]

Request for Information on the Uses of Rental Housing Finance Survey Data

AGENCY: Office of the Assistant Secretary for Policy Development and Research, Department of Housing and Urban Development (HUD).

ACTION: Request for information.

SUMMARY: The Department of Housing and Urban Development (HUD) is evaluating current needs for data from the Rental Housing Finance Survey (RHFS). As part of this evaluation, HUD is soliciting information from the public on uses of RHFS data and other comments or concerns about the RHFS.

DATES: Comments are requested on or before November 10, 2025. Late-filed comments will be considered to the extent practicable.

ADDRESSES: Interested persons are invited to submit comments responsive to this RFI. Copies of all comments submitted are available for inspection and downloading at www.regulations.gov. To receive consideration as public comments, comments must be submitted through one of the two methods specified below. All submissions must refer to the above docket number and title. Commenters are encouraged to identify the number of the specific question or questions to which they are responding. Responses should include the name(s) of the person(s) or organization(s) filing the comment; however, because any responses received by HUD will be publicly available, responses should not include any personally identifiable information or confidential commercial information.

1. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov website can be viewed by other commenters and interested members of the public. Commenters should follow the instructions provided on that site to submit comments electronically.

2. Submission of Comments by Mail. Comments may be submitted by mail to the Regulations Division, Office of General Counsel, Department of Housing and Urban Development, 451 7th Street SW, Room 10276, Washington, DC 20410-0500.

FOR FURTHER INFORMATION CONTACT: George Carter, Director, Housing and Demographic Analysis Division, Office of Policy Development and Research, 451 7th Street SW, Room 8222, Washington, DC 20410-0500, telephone number 202-402-5873 (this is not a toll-free number). HUD welcomes and is prepared to receive calls from individuals who are deaf or hard of hearing, as well as individuals with speech and communication disabilities. To learn more about how to make an accessible telephone call, please visit: https://www.fcc.gov/consumers/guides/telecommunications-relay-service-trs.

SUPPLEMENTARY INFORMATION:

I. Background

The purpose of the Rental Housing Finance Survey (RHFS) is to provide a current and continuous measure of the financial, mortgage and property characteristics of single-family and multifamily rental housing properties in the United States. The survey provides information on the financing of rental housing properties with emphasis on new originations for purchase, refinancing, and loan terms associated with these originations. In addition, the survey includes information on property characteristics, such as number of units, amenities available, rental income, operating costs, and capital expenditure information. The RHFS presents a full picture of the financing of rental housing, which is much more fragmented than the market for owner-occupied mortgages that is well documented by the private sector and supported by HUD, the Government Sponsored Enterprises, Fannie Mae and Freddie Mac, the Department of Veterans' Affairs, the U.S. Department of Agriculture's Rural Housing Service, and banks. The RHFS is the only data source with detailed information on the mortgage financing of multifamily rental properties with two or more units. RHFS data, tables, and documentation can be found here: https://www.census.gov/programs-surveys/rhfs.html.

II. Specific Information Requested

HUD is soliciting information from the public on uses of RHFS data and other comments or concerns about the RHFS. HUD welcomes all comments relevant to the RHFS. HUD is particularly interested in receiving input from interested parties, including government policy makers, academic researchers, and RHFS data users, on the questions outlined below.

1. What important data in the RHFS does the public use to analyze current rental housing finance characteristics and/or forecast future rental housing finance characteristics?

2. What concerns are there related to reducing the scope of, or eliminating entirely, the RHFS?

3. Is there any current RHFS content that is no longer relevant or has limited usefulness? Is there content that should be added to the RHFS?

4. Are there private sector data sources that provide comparable information to the RHFS?

5. Are there other concerns about content that is included or missing in the RHFS?

John Gibbs,
Principal Deputy Assistant Secretary for Policy Development and Research.

[FR Doc. 2025-17261 Filed 9-8-25; 8:45 am]

BILLING CODE 4210-67-P